ENVIRONMENTAL PROTECTION AGENCY

[FRL-6917-5]

Palmyra Atoll; Proposed Notice of Administrative Settlement

AGENCY: Environmental Protection Agency (EPA).

ACTION: Notice; request for public comment.

SUMMARY: In accordance with the Comprehensive Environmental Response, Compensation and Liability Act of 1980, as amended by the Superfund Amendments and Reauthorization Act of 1986 (CERCLA), 42 U.S.C. 9600 et seq., notice is hereby given that a proposed Agreement and Covenant Not to Sue (Prospective Purchaser Agreement) associated with Palmyra Atoll was executed by the United States Environmental Protection Agency (EPA) on November 16, 2000. The proposed Prospective Purchaser Agreement would resolve certain potential claims of the United States under sections 106 and 107(a) of CERCLA, 42 U.S.C. 9606 and 9607(a), and section 7003 of the Resource Conservation & Recovery Act (RCRA), 42 U.S.C. 6973, against The Nature Conservancy, a District of Columbia non-profit corporation (the Purchaser). The Purchaser plans to acquire Palmyra Atoll, a group of coral islets approximately 680 acres in extent located in the tropical Pacific Ocean 900 miles south-southwest of Hawaii at Lat. 5o N, Long. 162o W, to preserve it as a wildlife refuge. The Purchaser will pay EPA $10,000 and commit to manage the atoll to protect its conservation values in cooperation with the U.S. Department of Interior's Fish & Wildlife Service.

For thirty (30) calendar days following the date of publication of this notice, EPA will receive written comments relating to the proposed settlement. If requested prior to the expiration of this public comment period, EPA will provide an opportunity for a public meeting in the affected area. EPA's response to any comments received will be available for public inspection at the U.S. Environmental Protection Agency, 75 Hawthorne Street, San Francisco, CA 94105.

DATES: Comments must be submitted on or before January 16, 2001.

ADDRESSES: The proposed Prospective Purchaser Agreement and additional background documents relating to the settlement are available for public inspection at the U.S. Environmental Protection Agency, 75 Hawthorne Street, San Francisco, CA 94105. A copy of the proposed settlement may be obtained from William Keener, Assistant Regional Counsel (ORC-1), Office of Regional Counsel, U.S. EPA Region IX, 75 Hawthorne Street, San Francisco, CA 94105. Comments should reference “The Nature Conservancy PPA, Palmyra Atoll” and “Docket No. 2001-04” and should be addressed to William Keener at the above address.

FOR FURTHER INFORMATION CONTACT: William Keener, Assistant Regional Counsel (ORC-1), Office of Regional Counsel, U.S. EPA Region IX, 75 Hawthorne Street, San Francisco, CA 94105; phone: (415) 744-1356; fax (415) 744-1041; e-mail: keener.bill@epa.gov.

Dated: December 7, 2000.
Michael Feeley,
Acting Director, Superfund Division, Region IX.

[FR Doc. 00-32029 Filed 12-14-00; 8:45 am]

BILLING CODE 6560-50-P